SMALL BUSINESS ADMINISTRATION

Patriot Express Pilot Loan Initiative

AGENCY: U.S. Small Business Administration (SBA).

ACTION: Notice of extension of the Patriot Express Pilot Loan Initiative.

SUMMARY: This notice extends the Patriot Express Pilot Loan Initiative in its current form through December 31, 2013. This pilot initiative, established in 2007, was designed to increase lending to small businesses owned by members of the military community. It is based on the SBA Express model which uses streamlined documentation but provides a higher SBA guaranty of 85 percent for loans of $150,000 or less and 75 percent for loans greater than $150,000 up to $500,000.

DATES: The Patriot Express Pilot Loan Initiative is extended through December 31, 2013.

FOR FURTHER INFORMATION CONTACT: Grady B. Hedgespeth, Director, Office of Financial Assistance, U.S. Small Business Administration, 409 Third Street, SW., Washington, DC 20416; Telephone (202) 205-6490; grady.hedgespeth@sba.gov.

SUPPLEMENTARY INFORMATION: The Patriot Express Pilot Loan Initiative was established in 2007 and was based on the Agency's SBA Express Program. Lenders approved for participation in Patriot Express are authorized to use the expedited loan processing procedures in place for SBA Express, in order to specifically support lending to small businesses owned by eligible members of the military community. To encourage lenders to make these loans, SBA provides its full 75-85 percent guaranty, rather than the 50 percent guaranty the Agency provides under SBA Express. Also, the maximum loan amount under this pilot initiative is $500,000.

On June 22, 2007, SBA published a notice in the Federal Register announcing the program. (72 FR 34501) Since the program was implemented, more than 6,800 Patriot Express loans have been approved. SBA believes it is premature to assess the results of this pilot initiative at this time because most of the loans in this pilot were made in the last two years and there has not been sufficient time to measure their performance. An extension of this pilot for an additional three years will allow SBA time to better evaluate the results of the program and determine whether changes need to be made.

Authority: 15 U.S.C. 636(a)(25); 13 CFR 120.3.

Grady B. Hedgespeth,
Director, Office of Financial Assistance.

[FR Doc. 2010-31323 Filed 12-13-10; 8:45 am]

BILLING CODE 8025-01-P